EXPORT-IMPORT BANK

Notice of Open Meeting of the Advisory Committee of the Export-Import Bank of the United States (Ex-Im Bank)

SUMMARY: The Advisory Committee was established by Public Law 98-181, November 30, 1983, to advise the Export-Import Bank on its programs and to provide comments for inclusion in the report on competitiveness of the Export-Import Bank of the United States to Congress.

Time and Place: Wednesday, May 20, 2015 from 11:00 a.m.-3:00 p.m.. A break for lunch will be at the expense of the attendee. Security processing will be necessary for reentry into the building. The meeting will be held at Ex-Im Bank in the Main Conference Room—11th floor, 811 Vermont Avenue NW., Washington, DC 20571.

Agenda: Discussion of EXIM's Annual Competitiveness Report to Congress.

Public Participation: The meeting will be open to public participation, and 10 minutes will be set aside for oral questions or comments. Members of the public may also file written statement(s) before or after the meeting. If you plan to attend, a photo ID must be presented at the guard's desk as part of the clearance process into the building, you may contact Niki Shepperd at niki.shepperd@exim.gov to be placed on an attendee list. If any person wishes auxiliary aids (such as a sign language interpreter) or other special accommodations, please email Niki Shepperd at niki.shepperd@exim.gov prior to May 13, 2015.

Members of the Press: For members of the Press planning to attend the meeting, a photo ID must be presented at the guard's desk as part of the clearance process into the building please email Dolline Hatchett at dolline.hatchett@exim.gov to be placed on an attendee list.

Further Information: For further information, contact Niki Shepperd, 811 Vermont Ave. NW., Washington, DC 20571, at niki.shepperd@exim.gov

Lloyd Ellis,
Program Specialist, Office of the General Counsel.

[FR Doc. 2015-11081 Filed 5-7-15; 8:45 am]

BILLING CODE 6690-01-P